DEPARTMENT OF ENERGY

Federal Energy Regulatory Commission

[Project No. 13352-000]

Olsen Electric Development Co., Inc.; Notice of Preliminary Permit Applications Accepted for Filing and Soliciting Comment, Motions To Intervene, and Competing Applications

April 9, 2009.

On January 20, 2009, Olsen Electric Development Co., Inc. filed an application, pursuant to section 4(f) of the Federal Power Act, proposing to study the feasibility of the Malden Mills Hydroelectric Project, to be located on the Spicket River, in Essex County, Massachusetts.

The proposed Malden Mills Hydroelectric Project consists of: (1) An existing 85-foot-long, 12-foot-high Malden Mills Dam, with new foot-high wooden flashboards; (2) an existing 10-acre head pond having a maximum storage capacity of about 36 acre-feet; (3) a refurbished gatehouse containing two turbine generating units with a total installed capacity of 0.2 megawatts; (4) a direct connection to an existing substation; and (5) appurtenant facilities. The Malden Mills Project would have an average annual generation of 850 megawatt-hours, which would be sold to Polartec, LLC.

Applicant Contact: Mr. Jerome A. Olson, Olsen Electric Development Co., Inc., 30r Hampshire Street, Methuen, MA 01844, phone (978) 975-0400.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13352) in the docket number field to access the document. For assistance, call toll-free 1-866-208-3372.

Kimberly D. Bose,
Secretary.

[FR Doc. E9-8806 Filed 4-16-09; 8:45 am]

BILLING CODE 6717-01-P